ENVIRONMENTAL PROTECTION AGENCY

[FRL-7902-4]

Good Neighbor Environmental Board Meeting

AGENCY: Environmental Protection Agency (EPA).

ACTION: Notice of meeting.

SUMMARY: The next meeting of the Good Neighbor Environmental Board, a Federal advisory committee that reports to the President and Congress on environmental and infrastructure projects along the U.S. border with Mexico, will take place in Washington, DC, on May 10, 2005. It is open to the public.

DATES: On May 10th, the meeting will begin at 9 a.m. (registration at 8:30 a.m.) and end at 5:30 p.m.

ADDRESSES: The meeting site is the Radisson Hotel, Phillips Ballroom Conference Room, 2121 P Street, Washington, DC (two blocks from Dupont Circle metro). Telephone: (202) 293-3100.

FOR FURTHER INFORMATION CONTACT: Elaine M. Koerner, Designated Federal Officer for the Good Neighbor Environmental Board, U.S. Environmental Protection Agency, 1200 Pennsylvania Ave., NW., Washington, DC 20460. Tel: (202) 233-0069. E-mail: koerner.elaine@epa.gov.

SUPPLEMENTARY INFORMATION: Agenda: The meeting begins at 9 a.m. (registration at 8:30 a.m.). The Board will host an Expert Seminar from 9 a.m.-11 a.m. on management of water resources along the U.S.-Mexico border, using its latest report to the President and Congress as a springboard for discussion. Invited panelists will make brief remarks, followed by general discussion including questions and answers. From 11 a.m.-11:30 a.m., there will be a public comment session. Following an onsite working lunch and business meeting from 11:30 a.m.-1:30 p.m., the afternoon session will begin. From 1:30 p.m.-5:30 p.m., speakers will address the Board on the two topics it has selected for its next report: air quality and transportation; and natural and cultural resources. The meeting will conclude at 5:30 p.m.

Public Attendance: The public is welcome to attend all portions of the meeting. Members of the public who plan to file written statements and/or make brief (suggested 5-minute limit) oral statements at the public comment session are encouraged to contact the Designated Federal Officer (DFO) for the Board prior to the meeting.

Meeting Access: Individuals requiring special accommodation at this meeting, including wheelchair access to the conference room, should contact the DFO at least five business days prior to the meeting so that appropriate arrangements can be made.

Background: The Good Neighbor Environmental Board meets three times each calendar year at different locations along the U.S.-Mexico border and in Washington, DC. It was created by the Enterprise for the Americas Initiative Act of 1992. An Executive Order delegates implementing authority to the Administrator of EPA. The Board is responsible for providing advice to the President and the Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure problems along the southwest border. The U.S. Environmental Protection Agency gives notice of this meeting of the Good Neighbor Environmental Board pursuant to the Federal Advisory Committee Act (Pub. L. 92-463).

Dated: April 13, 2005.
Elaine Koerner,
Designated Federal Officer.

[FR Doc. 05-8023 Filed 4-20-05; 8:45 am]

BILLING CODE 6560-50-P